DEPARTMENT OF ENERGY

Federal Energy Regulatory Commission

[Docket No. CP01-41-000]

El Paso Natural Gas Company; Notice of Application

December 8, 2000.

On November 30, 2000, El Paso Natural Gas (El Paso), pursuant to Section 3 of the Natural Gas Act (NGA), and Subparts B and C of Part 153 of the Federal Energy Regulatory Commission's (Commission) regulations under the NGA, filed in Docket No. CP01-41-000 its application for: (1) an order authorizing the siting, construction, and operation of 60 feet of 16-inch diameter pipeline and the place of exit for export of up to 8,500 Mcf per day of natural gas at the International Boundary between the United States and Mexico in Santa Cruz County, Arizona; and, (2) a Presidential Permit, pursuant to Section 7 of the NGA and the Commission's Rules and Regulations, all as more fully set forth in the application which is on file with the Commission and open to public inspection. The filing may be viewed at http://www.ferc.fed.us/online/rims.htm (call 202-208-2222 for assistance).

The application states that El Paso understands that Nogales, Sonora, Mexico is host to a growing commercial manufacturing industry. Due to the increasing number of industrial parks and U.S. manufacturing plants being located in northern Sonora, there is an increasing need for supplies of clean burning natural gas as fuel. In response thereto, Ener-Son, U.S.A. Inc. (Ener-Son), a buyer and seller of natural gas, has agreed to provide for the increasing needs of these commercial manufacturing plants. In addition, Ener-Son also desires to provide natural gas to fuel future electric power generation in Northern Mexico.

El Paso states that its existing California Mainline System is capable of providing interruptible transportation service for such quantities of natural gas. However, certain additional metering and lateral facilities must be constructed between El Paso's existing mainline system and the point of interconnection at the International Boundary. El Paso will construct and operate: a delivery point, Ductos de Nogales; 4,216 feet of 6.625-inch diameter lateral pipeline (the last 60 feet of lateral on the United States side will be 16-inch diameter pipe); and, metering facilities pursuant to the automatic blanket provisions under sections 157.211(a) and 157.208(a), respectively, of the Commission's regulations.

El Paso's application further states that measurement will take place at the new delivery point; however, custody transfer will take place at the border crossing. A financial arrangement has been executed with El Paso for the construction and operation of the new gas transportation facilities. El Paso understands that construction has been completed of the necessary pipeline system in Mexico to the Mexican side of the border crossing.

Questions regarding the details of this proposed project should be directed to Robert T. Tomlinson, Director, Tariff and Certificates Department, El Paso Natural Gas Company, Post Office Box 1492, El Paso, Texas 79978, call (915) 496-5959.

There are two ways to become involved in the Commission's review of this project. First, any person wishing to obtain legal status by becoming a party to the proceedings for this project should, on or before December 22, 2000, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments and protests may be filed electronically via the internet in lieu of paper. See, 18 CFR 385.2001(a)(1)(iii) and the instructions on the Commission's web site at http://www.ferc.fed.us/efi/doorbell.htm.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

If the Commission decides to set the application for a formal hearing before an Administrative Law Judge, the Commission will issue another notice describing that process. At the end of the Commission's review process, a final Commission order approving or denying a certificate will be issued.

David P. Boergers,
Secretary.

[FR Doc. 00-31852 Filed 12-13-00; 8:45 am]

BILLING CODE 6717-01-M